ENVIRONMENTAL PROTECTION AGENCY

[FRL-8921-3]

Public Water Supply Supervision Program; Program Revision for the State of Idaho

AGENCY: Environmental Protection Agency (EPA).

ACTION: Notice of Tentative Approval.

SUMMARY: Notice is hereby given that the State of Idaho has revised its approved State Public Water Supply Supervision Primacy Program. Idaho has adopted regulations analogous to EPA's Variance and Exemptions Rule, Stage 2 Disinfectants and Disinfection Byproducts Rule, Long Term 2 Enhanced Surface Water Treatment Rule, Ground Water Rule, and Lead and Copper Short-Term Regulatory Revisions and Clarifications Rule. EPA has determined that these revisions are no less stringent than the corresponding federal regulations. Therefore, EPA intends to approve these State program revisions. By approving these rules, EPA does not intend to affect the rights of Federally recognized Indian tribes within “Indian country” as defined by 18 U.S.C. 1151, nor does it intend to limit existing rights of the State of Idaho.

All interested parties may request a public hearing. A request for a public hearing must be submitted by July 23, 2009 to the Regional Administrator at the EPA address shown below. Frivolous or insubstantial requests for a hearing may be denied by the Regional Administrator.

However, if a substantial request for a public hearing is made by July 23, 2009, a public hearing will be held. If no timely and appropriate request for a hearing is received and the Regional Administrator does not elect to hold a hearing on her own motion, this determination shall become final and effective on July 23, 2009.

Any request for a public hearing shall include the following information: (1) The name, address, and telephone number of the individual, organization, or other entity requesting a hearing; (2) a brief statement of the requesting person's interest in the Regional Administrator's determination and a brief statement of the information that the requesting person intends to submit at such hearing; (3) the signature of the individual making the request, or, if the request is made on behalf of an organization or other entity, the signature of a responsible official of the organization or other entity.

ADDRESSES: All documents relating to this determination are available for inspection between the hours of 9 a.m. and 4 p.m., Monday through Friday, at the Idaho Department of Environmental Quality, 1410 North Hilton, Boise, Idaho 83706 and between the hours of 9 a.m.-12 p.m. and 1-4 p.m. at the EPA Region 10 Library, 1200 Sixth Avenue, Seattle, Washington 98101.

FOR FURTHER INFORMATION CONTACT: Wendy Marshall, EPA Region 10, Drinking Water Unit, at the Seattle address given above; telephone (206) 553-1890.

Authority: Section 1420 of the Safe Drinking Water Act, as amended (1996), and 40 CFR Part 142 of the National Primary Drinking Water Regulations.

Dated: June 15, 2009.
Michelle L. Pirzadeh,
Acting Regional Administrator.

[FR Doc. E9-14746 Filed 6-22-09; 8:45 am]

BILLING CODE 6560-50-P